DEPARTMENT OF THE INTERIOR

National Park Service

[NPS-WASO-CONC-20496; PPWOBSADC0, PPMVSCS1Y.Y0000]

Notice of Temporary Concession Contract for the Operation of Lodging, Food and Beverage and Retail Services in Oregon Caves National Mounument and Preserve

AGENCY: National Park Service, Interior.

ACTION: Notice.

SUMMARY: The National Park Service intends to award a temporary concession contract to a qualified person for the conduct of certain visitor services within Oregon Caves National Mounument and Preserve for a term not to exceed 3 years. The visitor services include lodging, food and beverage and retail.

FOR FURTHER INFORMATION CONTACT: Trystan Stern, Pacific West Regional Concession Chief, Pacific West Region, 333 Bush St., Suite 500, San Francisco, CA 94104-2828; Telephone (415) 623-2223, by email at trystan_stern@nps.gov.

SUPPLEMENTARY INFORMATION: The National Park Service will award the temporary contract to a qualified person (as defined in 36 CFR 51.3) under TC-ORCA001-16 (Temporary Contract—ORCA001-16). The National Park Service has determined that a temporary concession contract not to exceed 3 years is necessary in order to avoid interruption of visitor services and has taken all reasonable and appropriate steps to consider alternatives to avoid an interruption of visitor services.

Authority: This action is issued pursuant to 36 CFR 51.24(a). This is not a request for proposals.

Dated: April 7, 2016.
Peggy O'Dell,
Deputy Director.

[FR Doc. 2016-08700 Filed 4-14-16; 8:45 am]

BILLING CODE 4312-53-P